DEPARTMENT OF HEALTH AND HUMAN SERVICES

Centers for Disease Control and Prevention

National Vaccine Advisory Committee, Subcommittee on Future Vaccines, Subcommittee on Immunization Coverage, and Subcommittee on Vaccine Safety and Communication Meetings

In accordance with section 10(a)(2) of the Federal Advisory Committee Act (Pub. L. 92-463), the Centers for Disease Control and Prevention (CDC) announces the following Federal advisory committee meetings.

Name: National Vaccine Advisory Committee (NVAC).

Times and Dates: 9 a.m.-2:15 p.m., June 5, 2001.

8:30 a.m.-1:15 p.m., June 6, 2001.

Place: Hubert H. Humphrey Building, Room 800, 200 Independence Avenue, SW., Washington, DC 20201.

Status: Open to the public, limited only by the space available.

Notice: In the interest of security, the Department has instituted stringent procedures for entrance to the Hubert H. Humphrey Building by non-government employees. Thus, persons without a government identification card should plan to arrive at the building each day either between 8 a.m. and 8:30 a.m. or 12:30 p.m. and 1 p.m. Entrance to the meeting at other times during the day cannot be assured.

Purpose: This committee advises and makes recommendations to the Director of the National Vaccine Program on matters related to the Program responsibilities.

Matters to be Discussed: Agenda items will include: a report from the National Vaccine Program Office (NVPO) and the Interagency Vaccine Workgroup; a report from the Acting Assistant Secretary for Health; Pediatric and Adult Immunization Standards Action: Approval; discussions on Autism and Measles-Mumps-Rubella (MMR); Vaccine Safety and Communication Subcommittee report; Immunization Coverage Subcommittee report; Future Vaccines Subcommittee report; update on the Vaccine Supply Workgroup; an update on the Pandemic Plan; a report on the Polio Laboratory Containment Workgroup; reports from Advisory Commission on Childhood Vaccines/Division of Vaccine Injury Compensation, Vaccine Related Biological Products Advisory Committee/Food and Drug Administration, Advisory Committee on Immunization Practices/National Immunization Program/National Center for Infectious Diseases.

Name: Subcommittee on Future Vaccines.

Time and Date: 2:15 p.m.-5 p.m., June 5, 2001.

Place: Hubert H. Humphrey Building, Room 305A, 200 Independence Avenue, SW., Washington, DC 20201.

Status: Open to the public, limited only by the space available.

Purpose: This subcommittee develops policy options and guides national activities that lead to accelerated development, licensure, and the best use of new vaccines in the simplest possible immunization schedules.

Matters to be Discussed: Agenda items will include plans for the September 5-6, meeting on rotavirus and intussusception; position paper based on the CMV Workshop; Stability of the vaccine supply—where do new vaccines fit in; and a discussion of topic for 2002 Workshop.

Name: Subcommittee on Immunization Coverage.

Time and Date: 2:15 p.m.-5 p.m., June 5, 2001.

Place: Hubert H. Humphrey Building, Room 325A, 200 Independence Avenue, SW., Washington, DC 20201.

Status: Open to the public, limited only by the space available.

Purpose: This subcommittee will identify and propose solutions that provide a multifaceted and holistic approach to reducing barriers that result in low immunization coverage for children.

Matters to be Discussed: Agenda items will include discussions on Immunization Among Prison Populations; A report on the Introduction of New Vaccines Workgroup; discussions on Influenza Supply Issues; an update on the Mandatory Immunization Guidelines Workgroup; discussion of Td/DTaP Supply Issues; an IOM Report: Calling the Shots; an update on Registry Issues and Unmet Needs Priority Setting.

Name: Subcommittee on Vaccine Safety and Communication.

Time and Date: 2 p.m.-5 p.m., June 5, 2001.

Place: Hubert H. Humphrey Building, Room 800, 200 Independence Avenue, SW., Washington, DC 20201.

Status: Open to the public, limited only by the space available.

Purpose: This subcommittee reviews issues relevant to vaccine safety and adverse reactions to vaccines.

Matters to be Discussed: Review of the agenda; review of National Infant Immunization Week; discussion on strengthening the vaccine supply; follow-up to the “Workshop on Vaccine Communications”; review of the IOM report on MMR Vaccine and Autism, discussion of the process for suggesting and selecting immunization safety issues for review by the IOM in 2002; public comment on immunization safety issues for review in 2002; and committee discussion.

Special Note: The Subcommittee on Vaccine Safety and Communications will provide a forum for input from the public regarding potential issues and topics for review in 2002 by the IOM's Immunization Safety Review Committee. This will be the first opportunity for the public to provide comments on the hypotheses that are being considered for future review.

Agenda items are subject to change as priorities dictate.

Contact Person for More Information: Gloria Sagar, Committee Management Specialist, NVPO, CDC, 1600 Clifton Road, NE, M/S D-66, Atlanta, Georgia 30333, telephone 404/687-6672.

The Director, Management Analysis and Services Office, has been delegated the authority to sign Federal Register Notices pertaining to announcements of meetings and other committee management activities, for both the Centers for Disease Control and Prevention and the Agency for Toxic Substances and Disease Registry.

Dated: May 8, 2001.
Carolyn J. Russell,
Director, Management Analysis and Services Office, Centers for Disease Control and Prevention.

[FR Doc. 01-12003 Filed 5-11-01; 8:45 am]

BILLING CODE 4163-18-P